DEPARTMENT OF LABOR

Office of the Secretary

Job Corps: Preliminary Finding of No Significant Impact (FONSI) for the Proposed Job Corps Center To Be Located at the Dome Industrial Park on 5th Avenue and 22nd Street in St. Petersburg, FL

AGENCY: Office of the Secretary (OSEC), Department of Labor.

ACTION: Preliminary Finding of No Significant Impact (FONSI) for the proposed Job Corps Center to be located at the Dome Industrial Park on 5th Avenue and 22nd Street in St. Petersburg, Florida.

SUMMARY: Pursuant to the Council on Environmental Quality Regulations (40 CFR part 1500-08) implementing procedural provisions of the National Environmental Policy Act (NEPA), the Department of Labor, Office of the Secretary (OSEC), in accordance with 29 CFR 11.11(d), gives notice that an Environmental Assessment (EA) has been prepared for a proposed new Job Corps Center to be located in St. Petersburg, Florida, and that the proposed plan for a new Job Corps Center will have no significant environmental impact. This Preliminary Finding of No Significant Impact (FONSI) will be made available for public review and comment for a period of 30 days.

DATES: Comments must be submitted by May 8, 2006.

ADDRESSES: Any comment(s) are to be submitted to Michael F. O'Malley, Office of the Secretary (OSEC), Department of Labor, 200 Constitution Avenue, NW, Room N-4460, Washington, DC 20210, (202) 693-3108 (this is not a toll-free number).

FOR FURTHER INFORMATION CONTACT: Copies of the EA are available to interested parties by contacting Michael F. O'Malley, Architect, Unit Chief of Facilities, U.S. Department of Labor, Office of the Secretary (OSEC), 200 Constitution Avenue, NW, Room N-4460, Washington, DC 20210, (202) 693-3108 (this is not a toll-free number).

SUPPLEMENTARY INFORMATION: This Environmental Assessment (EA) summary addresses the proposed construction of a new Job Corps Center in St. Petersburg, Florida. The subject property for the proposed Job Corps Center is an approximately 16-acre vacant parcel of land owned by the City of St. Petersburg, Florida.

The new center will require construction of approximately seven (7) to ten (10) new buildings, a retention pond, and a recreation field. The proposed Job Corps center will provide housing, training, and support services for 272 resident students and approximately 28 non-residential students for a total of 300 students. The current facility utilization plan includes new dormitories, a cafeteria building, administration offices, a Physical Fitness facility, vocational and educational classroom facilities, and a maintenance and storage facility.

The construction of the Job Corps Center on this proposed site would be a positive asset to the area in terms of environmental and socioeconomic improvements, and long-term productivity. The proposed Job Corps Center will be a new source of employment opportunity for people in the west-central Florida area. The Job Corps program provides basic education, vocational skills training, work experience, counseling, health care and related support services. The program is designed to graduate students who are ready to participate in the local economy.

The proposed project will not have any significant adverse impact on any natural systems or resources. No state or federal threatened or endangered species (proposed or listed) have been identified on the subject property.

Although the project is located in the Dome Industrial Park which contained the historical and significantly cultural landmark, the Manhattan Casino building, this landmark has experienced a major exterior renovation. Thus, the design and construction of a Job Corps center will not adversely affect any existing historic structures or neighborhoods, either adjacent or actually in the historically designated section of the Midtown neighborhood. More importantly, the design and construction of the center will take into account the historic fabric of this neighborhood in terms of construction materials, the physical setting of buildings and the proper use of color so that the center will blend into the existing neighborhood.

Air quality and noise levels should not be affected by the proposed development project. Due to the nature of the proposed project, it would not be a significant source of air pollutants or additional noise, except possibly during construction of the facility. All construction activities will be conducted in accordance with applicable noise and air pollution regulations, and all pollution sources will be permitted in accordance with applicable pollution control regulations.

The proposed Job Corps Center is not expected to significantly increase the vehicle traffic in the vicinity, since many of the Job Corps Center residents will either live at the Job Corps Center or use public transportation. While some Job Corps Center students and staff may use personal vehicles, their number would not result in a significant increase in vehicular traffic in the area. Access is planned from 5th Avenue and 22nd Street. Road improvements and/or installation of signals to facilitate site ingress/egress do not appear necessary.

The proposed project will not have any significant adverse impact on the surrounding water, sewer, and storm water management infrastructure. The new building to be constructed for the proposed Job Corps center will be tied into the existing City of St. Petersburg water distribution system. The new buildings to be constructed for the proposed center will also be tied into the City's existing wastewater utility system.

TECO would provide the electricity for the site. This is not expected to create any significant impact to the regional utility infrastructure.

No significant adverse affects to local medical, emergency, fire, and police services are anticipated. The primary medical provider located closest to the proposed Job Corps parcel is Bayfront Medical Center, approximately 1 mile from the proposed Job Corps Center. Never the less, the Job Corps center will have a small medical and dental facility as part of the campus for use by the residents, as necessary for providing a ward for sick students with the flu or small non-emergency incapacities. Security services at the Job Corps will be provided by the center's security staff. Law enforcement services are provided by the St. Petersburg Police Department, located approximately 1 mile from the proposed project site. The local fire station is the St. Petersburg Fire & Rescue. The fire department has two stations which operate 24 hours a day near the proposed site. One of the stations is less than 5 minutes away and will provide all of the necessary fire protection for the center in the near future.

The proposed project will not have a significant adverse sociological affect on the surrounding community. Similarly, the proposed project will not have a significant adverse affect on demographic and socioeconomic characteristics of the area.

The alternatives considered in the preparation of this FONSI were as follows: (1) No Action; and (2) Continue Project as Proposed. The No Action alternative was not selected. The U.S. Department of Labor's goal of improving the Job Corps Program by improving the learning environment at Job Corps Centers would not be met under this alternative. Due to the suitability of the proposed site for establishment of a new Job Corps Center, and the absence of any identified significant adverse environmental impacts from locating a Job Corps Center on the subject property, the “Continue Project as Proposed” alternative was selected.

Based on the information gathered during the preparation of the EA, no environmental liabilities, current or historical, were found to exist on the proposed Job Corps Center site. The construction of the Job Corps Center at the Dome Industrial Park on 5th Avenue and 22nd Street in St. Petersburg, Florida will not create any significant adverse impacts on the environment.

Dated: April 3, 2006.
Esther R. Johnson,
National Director of Job Corps.

[FR Doc. E6-5107 Filed 4-6-06; 8:45 am]

BILLING CODE 4510-23-P